DEPARTMENT OF DEFENSE

Office of the Secretary

[Transmittal No. 21-43]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 21-43 with attached Policy Justification and Sensitivity of Technology.

Dated: January 31, 2023.
Aaron T. Siegel,
Alternate OSD Federal Register Liaison Officer, Department of Defense.

BILLING CODE 5001-06-P

BILLING CODE 5001-06-C

Transmittal No. 21-43

Notice of Proposed Issuance of Letter of Offer Pursuant to Section 36(b)(1) of the Arms Export Control Act, as Amended

(i) Prospective Purchaser: Government of Spain

(ii) Total Estimated Value:

Major Defense Equipment * | $ 0 million
Other | $110 million
TOTAL | $110 million

(iii) Description and Quantity or Quantities of Articles or Services under Consideration for Purchase:

Major Defense Equipment (MDE):

None

Non-MDE:

Follow on Contractor Logistics Support to include contractor provided MQ-9A Blk 5 aircraft components, spares, and accessories; repair and return; software and software support services; simulator software; personnel training and training equipment; publications and technical documentation; U.S. Government and contractor provided engineering, technical and logistical support services; and other related elements of logistical and program support.

(iv) Military Department: Air Force (SP-D-QAF)

(v) Prior Related Cases, if any: SP-D-GAI, SP-D-SAA

(vi) Sales Commission, Fee, etc., Paid Offered, or Agreed to be Paid: None

(vii) Sensitivity of Technology Contained in the Defense Article or Defense Services Proposed to be Sold: None

(viii) Date Report Delivered to Congress: May 24, 2021

* As defined in Section 47(6) of the Arms Export Control Act.

Policy Justification

Spain—Follow-On Contractor Logistics Support (CLS) for MQ-9A Blk 5 Aircraft

The Government of Spain has requested to buy follow on Contractor Logistics Support to include contractor provided MQ-9A Blk 5 aircraft components, spares, and accessories; repair and return; software and software support services; simulator software; personnel training and training equipment; publications and technical documentation; U.S. Government and contractor provided engineering, technical and logistical support services; and other related elements of logistical and program support. The total estimated program cost is $110 million.

This proposed sale will support the foreign policy and national security objectives of the United States by improving the security of a NATO ally which is an important force for political stability and economic progress in Europe.

This proposed sale will improve Spain's capability to meet current and future threats by ensuring the operational readiness of the Royal Spanish Air Force. Spain's MQ-9A aircraft fleet provides Intelligence, Surveillance, and Reconnaissance support that directly supports U.S. and coalition operations around the world. Spain will have no difficulty absorbing these support services into its armed forces.

The proposed sale of this equipment and support will not alter the basic military balance in the region.

The prime contractor will be General Atomics, Palmdale, CA. There are no known offset agreements proposed in connection with this potential sale.

Implementation of this proposed sale will not require the assignment of any additional U.S. Government or contractor representatives to Spain.

There will be no adverse impact on U.S. defense readiness as a result of this proposed sale.

[FR Doc. 2023-02378 Filed 2-3-23; 8:45 am]

BILLING CODE 5001-06-P